DEPARTMENT OF AGRICULTURE

Animal and Plant Health Inspection Service

[Docket No. 04-039-2]

Mile-A-Minute Weed; Availability of an Environmental Assessment and Finding of No Significant Impact

AGENCY: Animal and Plant Health Inspection Service, USDA.

ACTION: Notice.

SUMMARY: We are advising the public that an environmental assessment and finding of no significant impact have been prepared by the Animal and Plant Health Inspection Service relative to issuing a permit for the environmental release of the nonindigenous weevil Rhinoncomimus latipes Korotyaev (Coleoptera: Curculionidae), a potential biological control agent of mile-a-minute weed (Polyganum perfoliatum). The environmental assessment documents our review and analysis of environmental impacts associated with, and alternatives to, issuing a permit for the environmental release of the weevil in the continental United States. Based on its finding of no significant impact, the Animal and Plant Health Inspection Service has determined that an environmental impact statement need not be prepared.

ADDRESSES: Copies of the environmental assessment and finding of no significant impact are available for public inspection in our reading room. The reading room is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: Dr. Robert Flanders, Branch Chief, Biological and Technical Services, Pest Permit Evaluations, PPQ, APHIS, 4700 River Road Unit 133, Riverdale, MD 20737-1236; (301) 734-5930.

SUPPLEMENTARY INFORMATION:

Background

Mile-a-minute weed (Polygonum perfoliatum L. [Polygonaceae]) is an annual vine that is indigenous to Asia. Since it was accidentally introduced into Pennsylvania via imported nursery stock in the 1930s, it has become established throughout the northeastern United States. The weed grows rapidly, with stems that can extend up to 6 meters. Its stems, petioles, and leaf veins are covered with downward-curving barbs that aid the plant in climbing and supporting itself on other plants.

Large, dense patches of mile-a-minute weed develop during the summer. As the vines climb over and cover other plants, they block available sunlight, which can reduce the population of native plant species in affected areas. Mile-a-minute weed can also interfere with Christmas tree farms, pine plantations, and reforestation projects by smothering tree seedlings. Nursery and horticultural crops that are not regularly tilled can also be affected by mile-a-minute weed. The Animal and Plant Health Inspection Service (APHIS) and several States list mile-a-minute weed as a noxious weed.

On June 1, 2004, we published in the Federal Register (69 FR 30865-30866, Docket No. 04-039-1) a notice in which we announced the availability, for public review and comment, of an environmental assessment documenting our review and analysis of environmental impacts associated with issuing a permit for the release of the nonindigenous weevil Rhinoncomimus latipes Korotyaev (Coleoptera: Curculionidae) as a biological control agent of mile-a-minute weed in the continental United States. Research suggests that larval feeding by this weevil has the potential to kill small mile-a-minute weed plants and stunt and reduce seed production by larger plants. Alternatives to issuing the permit were also examined in the environmental assessment, and included no action, herbicides, mechanical control, and cultural control.

We solicited comments on the environmental assessment for 30 days ending on July 1, 2004. We received one comment by that date, from a private citizen. The commenter objected to APHIS programs and activities in general, but did not address the environmental assessment. Therefore, we are making no changes to the environmental assessment based on this comment.

The environmental assessment and finding of no significant impact may be viewed on the Internet at http://www.aphis.usda.gov/ppq/. In the middle of that page, click on “Document/Forms Retrieval System.” At the next screen, click on the triangle beside “Permits—Environmental Assessments.” A list of documents will appear; the environmental assessment and finding of no significant impact for mile-a-minute weed are document number 0037. You may request paper copies of the environmental assessment and finding of no significant impact by calling or writing to the person listed under FOR FURTHER INFORMATION CONTACT. Please refer to the title of the environmental assessment and finding of no significant impact when requesting copies. The environmental assessment and finding of no significant impact are also available for review in our reading room (information on the location and hours of the reading room is listed under the heading ADDRESSES at the beginning of this notice).

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 28th day of September 2004.
Elizabeth E. Gaston,
Acting Administrator, Animal and Plant Health Inspection Service.

[FR Doc. E4-2473 Filed 10-1-04; 8:45 am]

BILLING CODE 3410-34-P